DEPARTMENT OF HOMELAND SECURITY

Coast Guard

33 CFR Part 167

[USCG-2011-0351]

Port Access Route Study: The Atlantic Coast From Maine to Florida

AGENCY: Coast Guard, DHS.

ACTION: Notice of study; request for comments.

SUMMARY: In order to provide safe access routes for the movement of vessel traffic proceeding to or from ports or places along the eastern seaboard of the United States, the Coast Guard is conducting a Port Access Route Study (PARS) to evaluate the continued applicability of, and the need for modifications to, current vessel routing measures. The data gathered during this Atlantic Coast PARS may result in establishment of one or more new vessel routing measures, modification of existing routing measures, or disestablishment of existing routing measures off the Atlantic Coast between Maine and Florida. The goal of the Atlantic Coast PARS is to enhance navigational safety by examining existing shipping routes and waterway uses, and, to the extent practicable, reconciling the paramount right of navigation within designated port access routes with other reasonable waterway uses such as the leasing of outer continental shelf blocks for the construction and operation of offshore renewable energy facilities. The recommendations of the study may lead to future rulemaking action or appropriate international agreements.

DATES: Comments and related material must reach the Docket Management Facility on or before August 9, 2011.

ADDRESSES: You may submit comments identified by docket number USCG-2011-0351 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329. To avoid duplication, please use only one of these four methods. See the “Public Participation and Request for Comments” portion of the SUPPLEMENTARY INFORMATION section below for instructions on submitting comments.

FOR FURTHER INFORMATION CONTACT: If you have questions on this notice of study contact George Detweiler, Office of Navigation Systems, Coast Guard, telephone 202-372-1566, e-mail George.H.Detweiler@uscg.mil. If you have questions on viewing or submitting material to the docket, call Ms. Renee K. Wright, Program Manager, Docket Operations, telephone 202-366-9826.

SUPPLEMENTARY INFORMATION:

I. Public Participation and Request for Comments

We encourage you to participate in this study by submitting comments and related materials. All comments received will be posted, without change, to http://www.regulations.gov and will include any personal information you have provided.

A. Submitting comments: If you submit comments, please include the docket number for this rulemaking (USCG-2011-0351), indicate the specific section of this document to which each comment applies, and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov, click on the “submit a comment” box, which will then become highlighted in blue. In the “Document Type” drop down menu select “Notice” and insert “USCG-2011-0351” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

B. Viewing the comments and documents: To view the comments and documents mentioned in this preamble as being available in the docket, go to http://www.regulations.gov, click on the “read comments” box, which will then become highlighted in blue. In the “Keyword” box insert “USCG-2011-0351” and click “Search.” Click the “Open Docket Folder” in the “Actions” column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

C. Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

II. Definitions

The following definitions (except as noted by an asterisk) are from the International Maritime Organization's (IMO's) publication “Ships' Routeing,” Tenth Edition, 2010, and should help you review this notice:

Area to be avoided (ATBA) means a routing measure comprising an area within defined limits in which either navigation is particularly hazardous or it is exceptionally important to avoid casualties and which should be avoided by all vessels, or certain classes of vessels.

Deep-water route means a route within defined limits, which has been accurately surveyed for clearance of sea bottom and submerged obstacles as indicated on nautical charts.

Exclusive economic zone (EEZ)* means the zone established by Presidential Proclamation 5030, dated March 10, 1983.

Fairway or shipping safety fairway* (33 CFR 166) means a lane or corridor in which no artificial island or fixed structure, whether temporary or permanent, will be permitted. Temporary underwater obstacles may be permitted under certain conditions described for specific areas in Title 33 CFR 166, Subpart B. Aids to navigation approved by the U.S. Coast Guard may be established in a fairway.

Inshore traffic zone means a routing measure comprising a designated area between the landward boundary of a traffic separation scheme and the adjacent coast, to be used in accordance with the provisions of Rule 10(d), as amended, of the International Regulations for Preventing Collisions at Sea, 1972 (COLREGS).

Obstruction* (33 CFR 64.06) means anything that restricts, endangers, or interferes with navigation.

Precautionary area means a routing measure comprising an area within defined limits where vessels must navigate with particular caution and within which the direction of traffic flow may be recommended.

Recommended route means a route of undefined width, for the convenience of vessels in transit, which is often marked by centerline buoys.

Recommended track is a route which has been specially examined to ensure so far as possible that it is free of dangers and along which vessels are advised to navigate.

Regulated Navigation Area (RNA)* means a water area within a defined boundary for which regulations for vessels navigating within the area have been established under 33 CFR 165.

Roundabout means a routing measure comprising a separation point or circular separation zone and a circular traffic lane within defined limits. Traffic within the roundabout is separated by moving in a counterclockwise direction around the separation point or zone.

Separation Zone or separation line means a zone or line separating the traffic lanes in which vessels are proceeding in opposite or nearly opposite directions; or separating a traffic lane from the adjacent sea area; or separating traffic lanes designated for particular classes of vessels proceeding in the same direction.

Structure* (33 CFR 64.06) means any fixed or floating obstruction, intentionally placed in the water, which may interfere with or restrict marine navigation.

Traffic lane means an area within defined limits in which one-way traffic is established. Natural obstacles, including those forming separation zones may constitute a boundary.

Traffic Separation Scheme (TSS) means a routing measure aimed at the separation of opposing streams of traffic by appropriate means and by the establishment of traffic lanes.

Two-way route means a route within defined limits inside which two-way traffic is established, aimed at providing safe passage of ships through waters where navigation is difficult or dangerous.

Vessel routing system means any system of one or more routes or routing measure aimed at reducing the risk of casualties; it includes traffic separation schemes, two-way routes, recommended tracks, areas to be avoided, no anchoring areas, inshore traffic zones, roundabouts, precautionary areas, and deep-water routes.

III. Background and Purpose

A. Requirement for port access route studies: Under the Ports and Waterways Safety Act (PWSA) (33 U.S.C. 1223(c)), the Commandant of the Coast Guard shall designate necessary fairways and traffic separation schemes (TSSs) to provide safe access routes for vessels proceeding to and from United States ports. The designation of fairways and TSSs recognizes the paramount right of navigation over all other uses in the designated areas.

The PWSA requires the Coast Guard to conduct a port access route study (PARS), i.e. a study of potential traffic density and the need for safe access routes for vessels, before establishing or adjusting fairways or TSSs. Through the study process, we must coordinate with Federal, State, and foreign state agencies (as appropriate) and consider the views of maritime community representatives, environmental groups, and other interested stakeholders. A primary purpose of this coordination is, to the extent practicable, to reconcile the need for safe access routes with other reasonable waterway uses such as construction and operation of renewable energy facilities and other uses of the Atlantic Ocean in the study area.

B. Previous port access route studies: A number of port-specific studies have been conducted for the major ports along the Atlantic seaboard of the United States. However, there has never been a PARS conducted for the entire Atlantic coast designed to analyze all vessel traffic proceeding to and from all the ports and transiting through the United States Exclusive Economic Zone (EEZ).

C. Necessity for a new port access route study: Given the current desire to identify alternative energy sites on the Atlantic Coastal Continental Shelf, the leasing of Outer Continental Shelf (OCS) blocks by the Bureau of Ocean Energy Management, Regulation and Enforcement (BOEMRE), and the nascent Coastal and Marine Spatial Planning (CMSP) effort, the Coast Guard has determined that a PARS for the entire Atlantic Coast (Maine to Florida) needs to be conducted. This PARS will not focus on the many port areas from the sea buoy into the ports. Rather, it will focus on the coastwise shipping routes and near coastal users of the Western Atlantic Ocean between the coastal ports, and the approaches to coastal ports within the EEZ. This Atlantic Coast PARS will identify all current and new users of the Western Atlantic near coastal zone, and help the Coast Guard determine what impact, if any, the siting, construction and operation of proposed alternative energy facilities may have on existing near coastal users of the Western Atlantic Ocean.

In November 2010, the Secretary of the Department of the Interior (DOI) announced Wind Energy Areas (WEAs) off the coasts of Massachusetts, New Jersey, Delaware, Maryland, Rhode Island and Virginia, and the intention to identify other areas off New York, Maine, North Carolina, South Carolina, and Georgia in 2011. These WEAs are offshore locations that appear most suitable for wind energy development. All of the identified WEAs are located at or near the entrances to major ports as the wind energy in these areas is suitable for possible commercial exploitation, the depth of water is adequate for wind farm construction, and there is landside electrical energy infrastructure to connect the wind farms.

The locations of some of the identified WEAs are at the seaward terminus of existing navigational TSSs. Other WEAs are located in or very near the traditional routes used by vessels in foreign trade and on Atlantic coastwise transits. The impact to safe and efficient navigation appears to be significant; although not yet characterized.

To ensure safety of navigation, the Coast Guard needs to fully characterize the impacts of rerouting traffic, funneling traffic, and placement of structures (e.g., wind turbines) that may obstruct navigation. Some of the impacts may include increased vessel traffic density, more restricted offshore vessel routing (seaward of pilotage areas), fixed navigation obstructions, underwater cable hazards, and economic impacts. Analyzing the various impacts will require a thorough understanding of the interrelationships of shipping, other commercial and recreational uses, and port operations.

IV. This PARS: Timeline, Study Area, and Process

The Coast Guard's Atlantic Area Command will conduct this PARS. The study will begin upon publication of this notice and should take approximately 12 months to complete.

The study area will encompass the entire EEZ of the Atlantic Coast from Maine to Florida and will encompass coastwise routes and the approaches to all Atlantic coastal ports.

As part of this study, we will analyze vessel traffic density, fishing vessel information, and agency and stakeholder experience in vessel traffic management, navigation, ship handling, and effects of weather. We encourage you to participate in the study process by submitting comments in response to this notice.

We will publish the results of the PARS in the Federal Register. It is possible that the study may validate existing vessel routing measures and conclude that no changes are necessary. It is also possible that the study may recommend one or more changes to enhance navigational safety and the efficiency of vessel traffic. The recommendations may lead to future rulemakings or appropriate international agreements.

Possible Scope of the Recommendations

We are attempting to determine the scope of any safety problems associated with vessel transits in the study area. We expect that information gathered during the study will help us identify any problems and appropriate solutions. The study may recommend that we—

• Maintain the current vessel routing measures;

• Modify the existing traffic separation schemes;

• Create one or more precautionary areas;

• Create one or more inshore traffic zones;

• Establish area(s) to be avoided;

• Create deep-draft routes;

• Establish Regulated Navigation Areas (RNA) with specific vessel operating requirements to ensure safe navigation near shallow water; and

• Identify any other appropriate ships' routing measures.

• Use this study for future decisions on routing measures or other maritime traffic considerations.

• Use this study to inform other agencies concerning the impacts of their future endeavors.

Questions

To help us conduct the port access route study, we request information that will help answer the following questions, although comments on other issues addressed in this notice are also welcome. In responding to a question, please explain your reasons for each answer and follow the instructions under “Public Participation and Request for Comments” above.

1. What navigational hazards do vessels operating in the study area face? Please describe.

2. Are there strains on the current vessel routing systems, such as increasing traffic density associated with future growth, e.g., impact of the Panama Canal expansion project? Please describe.

3. Are modifications to existing vessel routing measures needed to address hazards and improve traffic efficiency in the study area? If so, please describe.

4. What costs and benefits are associated with the measures listed as potential study recommendations? What measures do you think are most cost-effective?

5. What impacts, both positive and negative, would changes to existing routing measures or new routing measures have on the study area?

6. Where do you transit? Where are your transit routes? What criteria are used in determining your transit routes?

This notice is issued under authority of 33 U.S.C. 1223(c) and 5 U.S.C. 552.

Dated: May 3, 2011.
Robert C. Parker,
Vice Admiral, U.S. Coast Guard, Commander, Atlantic Area.

[FR Doc. 2011-11483 Filed 5-10-11; 8:45 am]

BILLING CODE 9110-04-P